DEPARTMENT OF TRANSPORTATION

Federal Motor Carrier Safety Administration

[Docket No. FMCSA-2018-0555]

Qualification of Drivers; Exemption Applications; Epilepsy and Seizure Disorders

AGENCY: Federal Motor Carrier Safety Administration (FMCSA), DOT.

ACTION: Notice of denials.

SUMMARY: FMCSA announces its decision to deny applications from 39 individuals who requested an exemption from the Federal Motor Carrier Safety Regulations (FMCSRs) prohibiting persons with a clinical diagnosis of epilepsy or any other condition that is likely to cause a loss of consciousness or any loss of ability to operate a commercial motor vehicle (CMV) from operating CMVs in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., e.t., Monday through Friday, except Federal holidays. If you have questions regarding viewing or submitting material to the docket, contact Docket Services, telephone (202) 366-9826.

SUPPLEMENTARY INFORMATION:

I. Electronic Access

You may see all the comments online through the Federal Document Management System (FDMS) at: http://www.regulations.gov.

Docket: For access to the docket to read background documents or comments, go to http://www.regulations.gov and/or Room W12-140 on the ground level of the West Building, 1200 New Jersey Avenue SE, Washington, DC, between 9 a.m. and 5 p.m., e.t., Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

FMCSA received applications from 39 individuals who requested an exemption from the FMCSRs prohibiting persons with a clinical diagnosis of epilepsy or any other condition that is likely to cause a loss of consciousness or any loss of ability to operate a CMV from operating CMVs in interstate commerce.

FMCSA has evaluated the eligibility of these applicants and concluded that granting these exemptions would not provide a level of safety that would be equivalent to or greater than, the level of safety that would be obtained by complying with the regulation 49 CFR 391.41(b)(8).

III. Basis for Exemption Determination

Under 49 U.S.C. 31136(e) and 31315, FMCSA may grant an exemption for five years if it finds such an exemption would likely achieve a level of safety that is equivalent to, or greater than, the level that would be achieved absent such an exemption. FMCSA grants exemptions from the FMCSRs for a two-year period to align with the maximum duration of a driver's medical certification.

The Agency's decision regarding these exemption applications is based on the eligibility criteria, the terms and conditions for Federal exemptions, and an individualized assessment of each applicant's medical information provided by the applicant.

IV. Conclusion

The Agency has determined that these applicants do not satisfy the criteria eligibility or meet the terms and conditions of the Federal exemption and granting these exemptions would not provide a level of safety that would be equivalent to or greater than, the level of safety that would be obtained by complying with the regulation 49 CFR 391.41(b)(8). Therefore, the 39 applicants in this notice have been denied exemptions from the physical qualification standards in 49 CFR 391.41(b)(8).

Each applicant has, prior to this notice, received a letter of final disposition regarding his/her exemption request. Those decision letters fully outlined the basis for the denial and constitutes final action by the Agency. This notice summarizes the Agency's recent denials as required under 49 U.S.C. 31315(b)(4) by periodically publishing names and reasons for denial.

The following 35 applicants do not meet the minimum time requirement for being seizure-free, either on or off of anti-seizure medication:

David M. Allyn (CT)

Daniel Bailey (NY)

Tiffany Banks (NV)

Lorenzo Barber (IL)

Richard Benjamin (AL)

Edward Blankenstein II (PA)

Charles Border (NM)

Andrew Browder (AL)

Pietro Capobianco (NJ)

Jon Cole (ID)

Michael Cole (NJ)

Charles Cournoyer (MA)

Ryan Daws (MN)

Shawn Durbin (UT)

William Everett (OH)

Taxhidin Ferati (WI)

Terry Friedrichs (MN)

Adam Fyle (NC)

Keith Hubbard (WV)

Thomas R. James (MN)

Kevin Jandreau (ME)

David Johnston (MN)

Douglas Kelbley (OH)

Timothy T. Leonard (CA)

Steven W. Massman (MN)

Kevin Mathis (NJ)

John McGhee (ND)

Brian Nelson (MO)

Raymond Phillips (FL)

Timothy Picot (MD)

Luis Tirado (PA)

William E. Turner (VA)

Blaine T. Weinsensel (WI)

Jeffrey J. Werner (WI)

Scott Wesner (WI)

The following four applicants do not meet the minimum time requirement for a stable anti-seizure medication dosage:

Steven L. Amell, Sr. (VT)

Thomas H. Lee (VA)

Gregory Long (CT)

Christopher Phillips (PA)

Issued on: August 8, 2018.
Larry W. Minor,
Associate Administrator for Policy.

[FR Doc. 2018-17565 Filed 8-14-18; 8:45 am]

BILLING CODE 4910-EX-P